DEPARTMENT OF COMMERCE

National Oceanic and Atmospheric Administration

RIN 0648-XA890

Gulf of Mexico Fishery Management Council; Public Meeting

AGENCY: National Marine Fisheries Service (NMFS), National Oceanic and Atmospheric Administration (NOAA), Commerce.

ACTION: Council to convene a public meeting.

SUMMARY: The Gulf of Mexico Fishery Management Council (Council) will convene a meeting of the Standing and Special Reef Fish Scientific and Statistical Committee (SSC).

DATES: The meeting will convene at 1 p.m. on Monday, January 9, 2012 and conclude by 12 p.m., Thursday, January 12, 2012.

ADDRESSES: The meeting will be held at the Gulf of Mexico Fishery Management Council, 2203 North Lois Avenue, Suite 1100, Tampa, FL 33607, telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Standing and Special Reef Fish SSC will review updated catch data and other updated information on the red snapper fishery provided by the Southeast Fisheries Science Center, and will recommend a level of acceptable biological catch beginning in 2012. The SSC will also review an update stock assessment on gray triggerfish and will recommend a level of acceptable biological catch for that stock. In addition, the SSC will be asked for volunteers from within its membership to participate in the SEDAR 31 red snapper benchmark assessment scheduled to begin in the summer of 2012. The SSC will also discuss the formation of a sub-group to suggest recommendations for revisions to the ABC control rule that was developed in the Generic Annual Catch Limits/Accountability Measures Amendment. Finally, the SSC will conduct an additional review of analysis by the National Marine Fisheries Service on the effect of minimum size limits on greater amberjack yield-per-recruit and spawning potential ratio. The SSC had previously reviewed this analysis in October, but had not received all of the documentation.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: December 20, 2011.
Tracey L. Thompson,
Acting Director, Office of Sustainable Fisheries, National Marine Fisheries Service.

[FR Doc. 2011-32958 Filed 12-22-11; 8:45 am]

BILLING CODE 3510-22-P